DEPARTMENT OF COMMERCE

Submission for OMB Review; Comment Request

The Department of Commerce will submit to the Office of Management and Budget (OMB) for clearance the following proposal for collection of information under the provisions of the Paperwork Reduction Act (44 U.S.C. Chapter 35).

Agency: Southeast Region Dealer and Interview Family of Forms.

OMB Control Number: 0648-0013.

Form Number(s): 88-12, 88-12B, 88-129, 88-30.

Type of Request: Regular submission.

Number of Respondents: 13,766.

Average Hours per Response: Shrimp and finfish interviews and dealer quota reports, 10 minutes; dealer no-purchase reports, 3 minutes; rock shrimp, golden crab and coral dealer reports, 15 minutes.

Burden Hours: 1,656.

Needs and Uses: The National Marine Fisheries Service, Southeast Fisheries Science Center uses these reporting instruments to collect landings statistics and quota monitoring data from commercial seafood dealers and to conduct interviews with fishermen for effort and fishing locations data. This family of forms includes data collection activities for monitoring fishery quotas, routine collections of monthly statistics from seafood dealers, and interviews with fishermen to collect catch/effort and biological data. Collection of information is authorized by the development of regional fishery management councils under the authority of the Magnuson-Stevens Fishery Conservation and Management Act.

Affected Public: Business or other for-profit organizations.

Frequency: Weekly, monthly, bimonthly and annually.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 16, 2009.
Gwellnar Banks,
Management Analyst, Office of the Chief Information Officer.

[FR Doc. E9-30328 Filed 12-21-09; 8:45 am]

BILLING CODE 3510-22-P